RAILROAD RETIREMENT BOARD

Sunshine Act Meetings

TIME AND DATE: 10:00 a.m., January 29, 2025.

PLACE: Members of the public wishing to attend the meeting must submit a written request at least 24 hours prior to the meeting to receive dial-in information. All requests must be sent to SecretarytotheBoard@rrb.gov.

STATUS: This meeting will be open to the public.

MATTERS TO BE CONSIDERED:

Office of Legislative Affairs Update

Bureau of Field Service Congressional Outreach Update

Website Survey—Next Steps

CONTACT PERSON FOR MORE INFORMATION: Stephanie Hillyard, Secretary to the Board, (312) 751-4920.

(Authority 5 U.S.C. 552b.)

Dated: January 15, 2025.
Stephanie Hillyard,
Secretary to the Board.

[FR Doc. 2025-01376 Filed 1-15-25; 4:15 pm]

BILLING CODE 7905-01-P